DEPARTMENT OF TRANSPORTATION

Federal Aviation Administration

Notice to Intend to Rule on Application 04-02-C-00-TTN to Impose and Use the revenue from a Passenger Facility Charge (PFC) at Trenton Mercer Airport, West Trenton, NJ

AGENCY: Federal Aviation Administration (FAA), DOT.

ACTION: Notice to intend to rule on application.

SUMMARY: The FAA proposes to rule an invites public comment on the application to impose and use a PFC at Trenton Mercer Airport under the provisions of the Aviation Safety and Capacity Act of 1990 (Title IX of the Omnibus Budget Reconciliation Act of 1990) (Pub. L. 101-508) and part 158 of the Federal Aviation Regulations (14 CFR part 158).

DATES: Comments must be received on or before December 26, 2003.

ADDRESSES: Comments on this Application may be mailed or delivered in triplicate to the FAA at the following address: Mr. Dan Vornea, Project Manager, New York District Office, 600 Old Country Road, Suite 446, Garden City, NY 11530.

In addition, one copy of any comments submitted to the FAA must be mailed or delivered to Mr. Justin P. Edwards, Airport Manager, of the Trenton Mercer Airport at the following addresses: Trenton Mercer Airport, Terminal Building, Sam Weinroth Road, West Trenton, NJ 08628.

Air carriers and foreign air carriers may submit copies of their written comments previously provided to Trenton Mercer Airport under § 158.23 of part 158.

FOR FURTHER INFORMATION CONTACT: Dan Vornea, Project Manager, New York Airports District office, 600 Old Country Road, Suite 446, Garden City, NY 11530, Telephone No. (516) 227-3812. The application may be reviewed in person at this same location.

SUPPLEMENTARY INFORMATION: The FAA proposes to rule and invites public comment on the application to impose and use a PFC at Trenton Mercer Airport under the provisions of the Aviation Safety and Capacity Expansion Act of 1990 (Title IX of the Omnibus Budget Reconciliation Act of 1990) (Pub. L. 101-508) and part 158 of the Federal Aviation Regulations (14 CFR part 158).

On November 13, 2003 the FAA determined that the application to impose and use a PFC submitted by the County of Mercer was substantially completed within the requirements of § 158.25 of part 158. The FAA will approve or disapprove the application, in whole or in part, no later than March 12, 2004.

The following is a brief overview of the application:

Application Number: 04-02-C-00-TTN.

Level of Proposed PFC: $4.50.

Proposed Charge Effective Date: January 1, 2004.

Proposed Charge Expiration Date: September 1, 2013.

Total Estimated PFC Revenue: $1,061,436.

Brief Description of Proposed Projects

—Construct Taxiway “E”—Construction Only

—Airport Planning Studies

—Acquire ARFF Safety Equipment

—Install Airport Lighting

—Acquire Airport Snow Sweeper

—Install Airfield Guidance Signage

—Construct Taxiway “G”

—Remove Obstructions—Runway 24 RPZ—

—Improve Terminal Building

—Improve Runway 6-24

—Rehabilitate Taxiways “A”, “C” and Partial “D”—State Funding Only

—Rehabilitate Runway 16-34

—Conduct Environmental Assessment—Terminal Building and Other Miscellaneous Projects

—Acquire ARFF Vehicles

—Improve Runway Safety Areas—Phase I

—Security Enhancements

—Construct Snow Removal Building—Phase I—Design Only

—PFC Application Services

Class or classes of air carriers which the public agency has requested not to be required to collect PFS's are : Non-Scheduled/On Demand Air Carriers filing FAA Form 1800-31.

Any person may inspect the Application in person at the FAA office listed above under FOR FURTHER INFORMATION CONTACT and at the FAA Regional Office: 1 Aviation Plaza, Jamaica, NY 11434-4809.

In addition, any person may, upon request, inspect the application notice and other documents germane to the application in person at the Trenton Mercer Airport.

Issued in Garden City, New York, on November 13, 2003.
Philip Brito,
Manager, NYADO, Eastern Region.

[FR Doc. 03-29453 Filed 11-25-03; 8:45 am]

BILLING CODE 4910-13-M